DEPARTMENT OF ENERGY

Federal Energy Regulatory Commission

[Docket No. RP03-622-001]

National Fuel Gas Supply Corporation; Notice of Compliance Filing

March 2, 2004.

Take notice that on February 25, 2004, National Fuel Gas Supply Corporation (National Fuel) tendered for filing as part of its FERC Gas Tariff, Fourth Revised Volume No. 1, Third Revised Sheet No. 478, with an effective date of March 15, 2004.

National Fuel states that the instant filing is being made in compliance with the Letter Order issued by the Commission on October 30, 2003, in Docket No. RP03-622-000, granting National Fuel's request for waiver of certain tariff provisions relating to cost contributions, financial assurance and real-time measurement in connection with a transportation service for EOG Resources, Inc. (EOG) National Fuel states that the Letter Order directed National Fuel to revise section 34 of its General Terms and Conditions and to file its non-conforming service agreement for transportation service with EOG, showing the deviations from the Form of Service Agreement for Firm Transportation contained in its FERC Gas Tariff.

National Fuel states that copies of this filing were served upon its customers and interested State commissions.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-497 Filed 3-8-04; 8:45 am]

BILLING CODE 6717-01-P